DEPARTMENT OF COMMERCE

National Oceanic and Atmospheric Administration

RIN 0648-XG566

Mid-Atlantic Fishery Management Council (MAFMC); Public Meeting

AGENCY: National Marine Fisheries Service (NMFS), National Oceanic and Atmospheric Administration (NOAA), Commerce.

ACTION: Notice; public meeting.

SUMMARY: The Working Group of the Northeast Trawl Advisory Panel (NTAP) of the Mid-Atlantic Fishery Management Council will hold a public meeting.

DATES: The meeting will be held on Monday, November 19, beginning at 10 a.m. and conclude by 4 p.m. For agenda details, see SUPPLEMENTARY INFORMATION.

ADDRESSES: Meeting address: The meeting will be held at the Northeast Fisheries Science Center (NEFSC) office located on 28 Tarzwell Dr., Narragansett, RI 02882 and available via webinar (http://www.mafmc.org/ntap).

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this Working Group meeting is to: (1) Review the status of the wingspread performance analyses and gear performance (door) evaluations, (2) discuss the twin trawl survey design and door testing with considerations given to species of interest, timing, experimental design and analyses, (3) discuss other business and next steps for the NTAP.

Special Accommodations

The meeting is physically accessible to people with disabilities. Requests for sign language interpretation or other auxiliary aid should be directed to M. Jan Saunders, (302) 526-5251, at least 5 days prior to the meeting date.

Dated: October 30, 2018.
Tracey L. Thompson,
Acting Deputy Director, Office of Sustainable Fisheries, National Marine Fisheries Service.

[FR Doc. 2018-23981 Filed 11-1-18; 8:45 am]

BILLING CODE 3510-22-P